Notice of January 13, 2017

Continuation of the National Emergency With Respect to Iran

On March 15, 1995, by Executive Order 12957, the President declared a national emergency with respect to Iran to deal with the unusual and extraordinary threat to the national security, foreign policy, and economy of the United States constituted by the actions and policies of the Government of Iran. On May 6, 1995, the President issued Executive Order (E.O.) 12959, imposing more comprehensive sanctions on Iran to further respond to this threat. On August 19, 1997, the President issued E.O. 13059, consolidating and clarifying the previous orders. I took additional steps pursuant to this national emergency in E.O. 13553 of September 28, 2010, E.O. 13574 of May 23, 2011, E.O. 13590 of November 20, 2011, E.O. 13599 of February 5, 2012, E.O. 13606 of April 22, 2012, E.O. 13608 of May 1, 2012, E.O. 13622 of July 30, 2012, E.O. 13628 of October 9, 2012, and E.O. 13645 of June 3, 2013.

On July 14, 2015, the P5+1 (China, France, Germany, Russia, the United Kingdom, and the United States), the European Union, and Iran reached a Joint Comprehensive Plan of Action (JCPOA) to ensure that Iran's nuclear program is and will remain exclusively peaceful. January 16, 2016, marked Implementation Day under the JCPOA, when the International Atomic Energy Agency (IAEA) issued a report verifying that Iran had completed key nuclear-related steps as specified in the JCPOA, and the Secretary of State confirmed the report's findings. As a result, the United States lifted nuclear-related sanctions on Iran consistent with its commitments under the JCPOA, including the termination of a number of Executive Orders that were issued pursuant to this national emergency. While nuclear-related sanctions were lifted pursuant to our JCPOA commitments, a number of non-nuclear sanctions remain in place.

Since Implementation Day, the IAEA has repeatedly verified, and the Secretary of State has confirmed, that Iran continues to meet its nuclear commitments pursuant to the JCPOA. However, irrespective of the JCPOA, which continues to ensure that Iran's nuclear program is and remains exclusively peaceful, certain actions and policies of the Government of Iran continue to pose an unusual and extraordinary threat to the national security, foreign policy, and economy of the United States. For this reason, the national emergency declared on March 15, 1995, must continue in effect beyond March 15, 2017. Therefore, in accordance with section 202(d) of the National Emergencies Act (50 U.S.C. 1622(d)), I am continuing for 1 year the national emergency with respect to Iran declared in E.O. 12957. The emergency declared by E.O. 12957 constitutes an emergency separate from that declared on November 14, 1979, by E.O. 12170. This renewal, therefore, is distinct from the emergency renewal of November 2016.

This notice shall be published in the Federal Register and transmitted to the Congress.

THE WHITE HOUSE,

January 13, 2017.

[FR Doc. 2017-01367

Filed 1-18-17; 8:45 am]

Billing code 3295-F7-P